OFFICE OF PERSONNEL MANAGEMENT

Submission for OMB Review; Comment Request for the Review of a Revised Information Collection: Form DPRS-2809

AGENCY: Office of Personnel Management.

ACTION: Notice.

SUMMARY: In accordance with the Paperwork Reduction Act of 1995 (Pub. L. 104-13, May 22, 1995), this notice announces that the Office of Personnel Management (OPM) has submitted to the Office of Management and Budget (OMB) a request for review of a revised information collection. DPRS 2809, Request to Change Federal Employees Health Benefits (FEHB) Enrollment, is used by former spouses and Temporary Continuation of Coverage recipients who are eligible to elect, cancel, or change health benefits enrollment during open season.

Approximately 27,000 DPRS-2809 forms are completed annually. We estimate it takes approximately 45 minutes to complete the forms. The annual burden is 20,250 hours.

For copies of this proposal, contact Mary Beth Smith-Toomey on (202) 606-8358, FAX (202) 418-3251 or via E-mail to MaryBeth.Smith-Toomey@opm.gov. Please include a mailing address with your request.

DATES: Comments on this proposal should be received within 30 calendar days from the date of this publication.

ADDRESSES: Send or deliver comments to—

Ronald E. Ostrich, Chief,Program Planning & Evaluation Group,Insurances Services Program,Center for Retirement and Insurance Services,U.S. Office of Personnel Management,1900 E Street, NW., Room 3425,Washington, DC 20415-3650; and

Brenda Aguilar,OPM Desk Officer,Office of Information & Regulatory Affairs,Office of Management and Budget,New Executive Office Building, NW.,Room 10235,Washington, DC 20503.

For Information Regarding Administrative Coordination—Contact: Cyrus S. Benson, Team Leader, Publications Team, RIS Support Services/Support Group, (202) 606-0623.

U.S. Office of Personnel Management.
Howard Weizmann,
Deputy Director.

[FR Doc. E8-14142 Filed 6-20-08; 8:45 am]

BILLING CODE 6325-38-P